DEPARTMENT OF JUSTICE

Notice of Lodging of Consent Decree Under the Clean Air Act

Pursuant to 28 CFR 50.7, notice is hereby given that on August 20, 2004, a proposed consent decree in United States and Ventura County Air Pollution Control District v. Diversified Panel Systems, Inc., Civil Action No. CV 04-7028-DT(JTLx), was lodged with the United States District Court for the Central District of California.

In this action, the United States sought injunctive relief and civil penalties under Section 110 of the Clean Air Act (“CAA”) against Diversified Panel Systems, Inc. (“DPSI”), for violations of the federally enforceable California State Implementation Plan at DPSI's polystyrene block manufacturing and processing facility in Oxnard, California. The consent decree requires DPSI to pay a civil penalty to the United States in the amount of $152,425, and will require DPSI to design and conduct appropriate emissions testing to demonstrate compliance with the emissions standards specified in the Authority to Construct permit issued by the Ventura County Air Pollution Control District (“VCAPCD”), upon which the VCAPCD will issue a Permit to Operate to DPSI for the facility. Quarterly monitoring and reporting will be required after the Permit to Operate is issued. As the permit issuing agency, VCAPCD is a co-plaintiff with the United States in the Consent Decree.

The Department of Justice will receive for a period of thirty (30) days from the date of this publication comments relating to the consent decree. Comments should be addressed to the Assistant Attorney General, Environment and Natural Resources Division, P.O. Box 7611, U.S. Department of Justice, Washington, DC 20044-7611, and should refer to United States and Ventura County Air Pollution Control District v. Diversified Panel Systems, Inc., D.J. Ref. #90-5-2-1-07680.

The consent decree may be examined at the Office of the United States Attorney, 300 N. Los Angeles Street, Los Angeles, California, and at U.S. EPA Region 9, Office of Regional Counsel, 75 Hawthorne Street, San Francisco, California. During the public comment period, the consent decree may also be examined on the following Department of Justice Web site: http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.50 (25 cents per page reproduction cost) payable to the U.S. Treasury.

Ellen M. Mahan,
Assistant Chief, Environmental Enforcement Section, Environment and Natural Resources Division.

[FR Doc. 04-20472 Filed 9-8-04; 8:45 am]

BILLING CODE 4410-15-M